DEPARTMENT OF HOMELAND SECURITY

Coast Guard

33 CFR Part 117

[Docket No. USCG-2014-0365]

RIN 1625-AA09

Drawbridge Operation Regulation: Illinois Waterway, Joliet, IL

AGENCY: Coast Guard, DHS.

ACTION: Notice of public meeting; request for comments.

SUMMARY: The Coast Guard announces a public meeting to receive comments on a notice of proposed rulemaking (NPRM) entitled “Drawbridge Operation Regulation; Illinois Waterway, Joliet, IL” that was published in the Federal Register on August 27, 2014. As stated in the NPRM, the Coast Guard proposes to modify the operating regulations for six drawbridges, located between river mile 285.8 and river mile 288.7, across the Illinois Waterway, at Joliet, Illinois. The NPRM proposes to consolidate the current operating regulation, which includes five on-site bridge tender control stations, into one centralized control point for all five drawbridges. The NPRM also proposes to add a sixth drawbridge that will also operate under the centralized control point. The proposed action is intended to improve navigational safety and operational efficiency in the Joliet area.

DATES: A public meeting will be held on Tuesday, December 16, 2014, from 3 p.m. until 6 p.m. We are also re-opening the comment period for this proposed rule. Comments and related material submitted after the meeting must be received by the Coast Guard on or before December 26, 2014.

ADDRESSES: The public meeting will be held at City of Joliet, City Hall, 150 West Jefferson Street, Planning Conference Room, Joliet, IL 60432.

You may submit written comments identified by docket number USCG-2014-0365 before or after the meeting using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. Our online docket for this rulemaking is available on the Internet at http://www.regulations.gov under docket number USCG-2014-0365.

FOR FURTHER INFORMATION CONTACT: If you have questions concerning the meeting or the proposed rule, please call or email Mr. Eric Washburn, Bridge Administrator, Western Rivers, (314) 269-2378, email eric.washburn@uscg.mil. If you have questions on viewing or submitting material to the docket, call Cheryl Collins, Program Manager, Docket Operations, telephone 202-366-9826.

SUPPLEMENTARY INFORMATION:

Background and Purpose

We published a NPRM in the Federal Register on August 27, 2014 (79 FR 51132), entitled “Drawbridge Operation Regulation; Illinois Waterway, Joliet, IL.” We did not plan to hold a public meeting, but we received several valid requests for one and have concluded that a public meeting would aid this proposed rulemaking.

In the NPRM, we proposed to modify the operating regulations for six drawbridges in the Joliet Harbor, based on an Illinois Department of Transportation request.

You may view the NPRM in our online docket and comments submitted thus far by going to http://www.regulations.gov. Once there, insert “USCG-2014-0365” in the “Keyword” box and click “Search.” You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

We encourage you to participate in this rulemaking by submitting comments either orally at the meeting or in writing before or at the meeting. If you bring written comments to the meeting, you may submit them to Coast Guard personnel specified at the meeting to receive written comments. These comments will be posted to the public docket for this proposed rulemaking. All comments received will be posted without change to http://www.regulations.gov and will include any personal information you have provided.

Comments submitted after the meeting must reach the Coast Guard on or before December 26, 2014. If you submit a comment online via http://www.regulations.gov, it will be considered received by the Coast Guard when you successfully transmit the comment. If you fax, hand deliver, or mail your comment, it will be considered as having been received by the Coast Guard when it is received at the Docket Management Facility.

Anyone can search the electronic form of comments received into any of our dockets by the name of the individual submitting the comment (or signing the comment, if submitted on behalf of an association, business, labor union, etc.). You may review a Privacy Act notice regarding our public dockets in the January 17, 2008, issue of the Federal Register (73 FR 3316).

Information on Service for Individuals With Disabilities

For information on facilities or services for individuals with disabilities or to request special assistance at the public meeting, contact Mr. Eric Washburn at the telephone number or email address indicated under the FOR FURTHER INFORMATION CONTACT section of this document.

Public Meeting

The Coast Guard will hold a public meeting regarding its Drawbridge Operation Regulation; Illinois Waterway, Joliet, IL proposed rule on Tuesday, December 16, 2014, from 3 p.m. until 6 p.m. at City of Joliet, City Hall, 150 West Jefferson Street, Planning Conference Room, Joliet, IL 60432. We plan to record this meeting using an audio-digital recorder and then make that audio recording available through a link in our online docket. We will also provide a written summary of the meeting and comments and will place that summary in the docket.

Dated: November 25, 2014.
Kevin S. Cook,
Rear Admiral, Commander, U.S. Coast Guard, Eighth Coast Guard District.

[FR Doc. 2014-28608 Filed 12-4-14; 8:45 am]

BILLING CODE 9110-04-P